DEPARTMENT OF ENERGY

Federal Energy Regulatory Commission

[Docket No. IC04-542-001, FERC-542]

Commission Information Collection Activities, Proposed Collection; Comment Request; Submitted for OMB Review

October 28, 2004.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of August 26, 2004 (69 FR 7634) and has made this indication in its submission to OMB.

DATES: Comments on the collection of information are due by November 29, 2004.

ADDRESSES: Address comments on the information collection to the Office of Management and Budget, Office of Information and Regulatory Affairs, Attention: Federal Energy Regulatory Commission Desk Officer. Comments to OMB should be filed electronically, c/o Pamela_L._Beverly@omb.eop.gov and include the OMB Control No. as a point of reference. The Desk Officer may be reached by telephone at 202-395-4650. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-542-001.

Documents filed electronically via the Internet must be prepared in, MS Word, Portable Document Format, Word Perfect or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-542 “Gas Pipeline Rates: Rate Tracking.”

2. Sponsor: Federal Energy Regulatory Commission.

3. Control No.: 1902-0070.

The Commission is now requesting that OMB approve with a three-year extension of the expiration date, with no changes to the existing collection. The information filed with the Commission is mandatory.

4. Necessity of the Collection of Information: Submission of the information is necessary to enable the Commission to carry out its responsibilities in implementing the statutory provisions of sections 4, 5 and 16 of the Natural Gas Act (NGA) (Pub. L. 75-688) (15 U.S.C. 717-717w). Under the NGA, a natural gas company must obtain Commission approval to engage in the transportation, sale or exchange of natural gas in interstate commerce. Sections 4, 5 and 16 authorize the Commission to collect natural gas transmission cost information from interstate natural gas transporters for the purpose of verifying that these costs which are passed on to pipeline customers, are just and reasonable. Interstate natural gas pipelines are required by the Commission to track their transportation associated costs to allow for the Commission's review and where appropriate, approval of the pass through of these costs to pipeline customers. Most of the FERC-542 tracking filings are monthly accountings of the cost of fuel or electric power to operate compressor stations.

Tracking filings may be submitted at any time or on a regularly scheduled basis in accordance with the pipeline company's tariff. Filings may be either: (1) Accepted; (2) suspended and set for hearing; (3) suspended, but not set for hearing; or (4) suspended for further review, such as technical conference or some other type of Commission action. The Commission implements these filing requirements in the Code of Federal Regulations (CFR) under 18 CFR part 154, 154.4, 154.7, 154.101, 154.107, 154.201, 154.207-209 and 154.401-403.

5. Respondent Description: The respondent universe currently comprises 57 companies (on average per year) subject to the Commission's jurisdiction.

6. Estimated Burden: 23,940 total hours, 57 respondents (average per year), 3 responses per respondent, and 140 hours per response (average).

7. Estimated Cost Burden to respondents: 23,940 hours/2080 hours per years × $107,185 per year = $1,233,658.

Statutory Authority: Sections 4, 5 and 16 of the Natural Gas Act (NGA), Pub. L. 75-688) (15 U.S.C. 717-717).
Magalie R. Salas,
Secretary.

[FR Doc. 04-24596 Filed 11-3-04; 8:45 am]

BILLING CODE 6717-01-P